DEPARTMENT OF STATE

[Public Notice 7339]

30-Day Notice of Proposed Information Collection: Refugee Biographic Data, OMB Control Number 1405-0102

ACTION: Notice of request for public comment and submission to OMB of proposed collection of information.

SUMMARY: The Department of State has submitted the following information collection request to the Office of Management and Budget (OMB) for approval in accordance with the Paperwork Reduction Act of 1995.

• Title of Information Collection: Refugee Biographic Data

• OMB Control Number: 1405-0102

• Type of Request: Extension of a Currently Approved Collection

• Originating Office: Bureau of Population, Refugees, and Migration, PRM/A

• Form Number: N/A

• Respondents: Refugee applicants for the U.S. Refugee Admissions Program

• Estimated Number of Respondents: 75,000

• Estimated Number of Responses: 75,000

• Average Hours Per Response: one-half hour

• Total Estimated Burden: 37,500 hours

• Frequency: once per respondent

• Obligation to Respond: required to obtain a benefit

DATES: Submit comments to the Office of Management and Budget (OMB) for up to 30 days from February 22, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Delicia Spruell, Department of State, PRM/Admissions, 2025 E Street, NW., Washington, DC 20522-0908, who may be reached on (202) 453-9257 or at spruellda@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: The Refugee Biographic Data Sheet describes a refugee applicant's personal characteristics and is needed to match the refugee with a sponsoring voluntary agency to ensure appropriate initial reception and placement in the U.S. under the United States Refugee Admissions Program administered by the Bureau of Population, Refugees, and Migration.

Methodology: Biographic information is collected in a face-to-face interview of the applicant overseas. An employee of an Overseas Processing Entity, under contract with PRM, collects the information and enters it into the Worldwide Refugee Admissions Processing System.

Dated: February 14, 2011.
Lawrence Bartlett,
Acting Director, Office of Admissions, Bureau of Population, Refugees, and Migration, Department of State.

[FR Doc. 2011-3879 Filed 2-18-11; 8:45 am]

BILLING CODE 4710-33-P